DEPARTMENT OF THE INTERIOR

National Park Service

[NPS-WASO- NRNHL- DTS#-0936201; PPWOCRADI0, PCU00RP14.R50000]

National Register of Historic Places; Notification of Pending Nominations and Related Actions

AGENCY: National Park Service, Interior.

ACTION: Notice.

SUMMARY: The National Park Service is soliciting electronic comments on the significance of properties nominated before July 8, 2023, for listing or related actions in the National Register of Historic Places.

DATES: Comments should be submitted electronically by August 7, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 8, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

FLORIDA

Sumter County

Community of Royal Rural Historic District, Bounded by Cty. Rd. 475, Cty. Rd. 216A, Cty. Rd. 223, and US Hwy 44, Wildwood vicinity, SG100009226

MARYLAND

Baltimore Independent City

Market Center Historic District (Boundary Increase), Block bounded by Druid Hill Ave., West Centre St., North Howard St., West Monument St., and North Eutaw St., Baltimore, BC100009235

NORTH CAROLINA

Buncombe County

Miller, Boyce K. and Kitzi McLamb, House, 5 Hemphill Rd., Asheville vicinity, SG100009224

Burke County

Waldensian Swiss Embroidery Company-Valdese Weavers, Inc. Mill, 108 Praley St. SW, Valdese, SG100009230

Caswell County

Wemple-Shelton House, 2215 US 158 West, Yanceyville vicinity, SG100009231

Chowan County

Frinks, Golden Asro and Ruth Holley, House, 122 West Peterson St., Edenton, SG100009229

Forsyth County

Coan-Gray House, 1121 Arbor Rd., Winston-Salem, SG100009227

Pamlico County

Holt's Chapel School, (Rosenwald School Building Program in North Carolina MPS), 136 Janiero Rd., Oriental vicinity, MP100009232

Wayne County

Uzzell-Best Farm, 1361 New Hope Rd., La Grange vicinity, SG100009228

OHIO

Summit County

Glendale Steps, 65-99 Glendale Ave., Akron, SG100009237

PENNSYLVANIA

Philadelphia County

Esherick, Margaret, House, 204 Sunrise Ln., Philadelphia, SG100009239

First Baptist Church of Germantown, 40 East Price St., Philadelphia, SG100009240

Schuylkill County

Fighter's Heaven, 58 Sculps Hill Rd., Orwigsburg, SG100009238

A request for removal has been made for the following resource:

OREGON

Grant County

Sumpter Valley Railway, Middle Fork-John Day River, Sumpter Valley Railway's Middle Fork Spur between Bates and Susanville, Bates vicinity, OT87001066

Authority: Section 60.13 of 36 CFR part 60.

Dated: July 12, 2023.
Sherry A. Frear,
Chief, National Register of Historic Places/National Historic Landmarks Program.

[FR Doc. 2023-15455 Filed 7-20-23; 8:45 am]

BILLING CODE 4312-52-P